ENVIRONMENTAL PROTECTION AGENCY

[ER-FRL-6620-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 14, 2000 (65 FR 20157).

Draft EISs

ERP No. D-AFS-J65339-UT Rating EC2, Solitude Mountain Resort Master Development Plan Update (MDP), Implementation, Special-Use-Permit, Wasatch-Cache National Forest, Salt Lake County, UT.

Summary: EPA expressed environmental concerns regarding the impacts to, or analysis of, water quality and quantity, aquatic and wetland habitat, wildlife habitat, alpine tundra and development of additional support facilities.

ERP No. D-FAA-K51040-CA Rating EC2, Santa Barbara Airport Improvements, Extension of Runway Safety Areas for Runway 7/25, Expansion of the Airline Terminal Building, New Air Cargo Building, New Taxiway M, Pavement of Taxiway B, Additional T-Hangers and a New On-Airport Service Road, Funding, COE Section 404 and 10 Permits, Santa Barbara County, CA.

Summary: EPA expressed environmental concerns due to a loss of eight acres of coastal wetlands, the adequacy of mitigation to compensate for unavoidable wetlands, the adequacy of mitigation to compensate for unavoidable wetlands loss, increased water pollution loading and an apparent discrepancy regarding air quality conformity.

The FEIS/R should have mitigation adequate to ensure consistency with the Clean Water Act and Federal regulations governing the issuance of permits under Clean Water Act Section 404 and clarify/resolve the air quality issue.

ERP No. DD-NOA-L64015-AK Rating EC2, Groundfish Fishery Management Plan, Implementation, Bering Sea and Aleutian Islands, AK.

Summary: EPA expressed environmental concerns regarding the analyses for different species and groups of species, and the incomplete discussion of the ecology of the fishery. EPA recommends that the final EIS use similar methodologies in its impacts analysis, and bolster the discussion of the ecology of the fishery.

ERP No. DS-UMC-K11067-00 Rating LO, Yuma Training Range Complex Management, Additional Information on the Cumulative Impacts of Activities on the Sonoran pronghorn (Antilocapra americana sonorienisis), Marine Corps Air Station Yuma, Goldwater Range, Yuma and La Paz Cos., AZ and Chocolate Mountain Range, Imperial and Riverside, CA.

Summary: EPA commended the lead agency for its thorough analysis of cumulative effects on the Sonoran pronghorn.

FINAL EISs

ERP No. F-AFS-F65028-MI, Plantation Lakes Vegetation Management Project, Implementation, Ottawa National Forest, Kenton and Ontonagon Ranger Districts, Houghton County, MI.

Summary: EPA has not identified any potential environmental impacts requiring changes to the proposed action.

ERP No. F-BLM-J65331-00, Williams, Questar, Kern River Pipeline Project, To Approve a Petroleum Products Pipeline, and one or two Natural Gas Pipelines and To Amend Forest Plan, UT, NM and CO.

Summary: EPA continues to have concerns that the Equilon pipeline from Odessa, TX to Bloomfield, NM was not disclosed as a connected action. Therefore, the final EIS could not evaluate the entire scope of possible impacts. BLM has stated they will compile additional information for EPA to consider.

ERP No. F-DOE-K08023-AZ, Sundance Energy Project, Interconnecting a 600-megawatt Natural Gas-Fired, Simple Cycle Peaking Power Plant with Western's Electric Transmission System, Construction and Operation on Private Lands, Pinal County, AZ.

Summary: EPA continued to express concerns regarding the storage and reuse of wastewater, bioaccumulation of contaminants in wastewater storage ponds, and CWA Section 404 compliance. EPA suggested that the Record of Decision provide data and documentation to address these concerns, and EPA urged the action agency and proponent to work with the local community on safety concerns with the storage and use of liquid ammonia.

ERP No. F-FAA-A52169-00, Programmatic EIS—Commercial Launch Vehicles, Implementation, Issuing a Launch License.

Summary: EPA has no objection to the action as proposed.

ERP No. F-NPS-B65022-MA, New Bedford Whaling National Historical Park, General Management Plan, Implementation, Bristol County, MA.

Summary: EPA had no objections to the proposed project.

ERP No. FA-FAA-F51040-IN, Indianapolis International Airport Master Plan Development, Updated Information to Construct a Midfield Terminal, Midfield Interchange, and Associated Developments, Airport Layout Plan Approval, Funding and Section 404 Permit, Marion County, IN.

Summary: EPA continues to have concerns related to the possibility of a shortfall in the provision of forested compensatory wetlands as related both to this project and the previous major construction project at the airport.

Dated: August 7, 2001.
Joseph C. Montgomery,
Director, NEPA Compliance Division, Office of Federal Activities.

[FR Doc. 01-20124 Filed 8-9-01; 8:45 am]

BILLING CODE 6560-50-P